ENVIRONMENTAL PROTECTION AGENCY

[FRL-7503-5]

Framework for Cumulative Risk Assessment

AGENCY: Environmental Protection Agency (EPA).

ACTION: Notice of availability of a final report.

SUMMARY: The U.S. Environmental Protection Agency's Risk Assessment Forum (RAF) announces the availability of a final report, Framework for Cumulative Risk Assessment (EPA/630/P-02/001F, April 2002).

ADDRESSES: The document is available electronically through the Risk Assessment Forum's Web site (http://cfpub.epa.gov/ncea/raf/recordisplay.cfm?deid=54944). A limited number of paper copies will be available from the EPA's National Service Center for Environmental Publications (NSCEP), P.O. Box 42419, Cincinnati, OH 45242; telephone: 1-800-490-9198 or 513-489-8190; facsimile: 513-489-8695. Please provide your name and mailing address and the title and EPA number of the requested publication.

FOR FURTHER INFORMATION CONTACT: Michael Callahan, U.S. Environmental Protection Agency Region 6, Mail Code 6RA, 1445 Ross Avenue, Suite 1200, Dallas, TX 75202-2733; telephone: 214-665-2787; facsimile: 214-665-6648; e mail: callahan.michael@epa.gov.

SUPPLEMENTARY INFORMATION: Several reports, including the National Research Council's (NRC) 1994 report “Science and Judgment in Risk Assessment,” have highlighted the importance of understanding the accumulation of risks from multiple environmental stressors. These reports, as well as legislation such as the Food Quality Protection Act of 1996 (FQPA), urged EPA to move beyond single chemical assessments and to focus, in part, on the cumulative effects of chemical exposures occurring simultaneously. In 1999, EPA's Risk Assessment Forum (Forum) began development of EPA-wide cumulative risk assessment guidance. The Framework for Cumulative Risk Assessment (Framework) is the result of the efforts of a Forum Technical Panel.

The Framework is the first step in a long-term effort to develop Agency-wide cumulative risk assessment guidance. Building on EPA's growing experience with cumulative risk assessment, the Framework is intended to foster consistent approaches to cumulative risk assessment in EPA, identify key issues, and define terms used in these assessments. The Framework identifies the basic elements of the cumulative risk assessment process and provides a flexible structure for conducting and evaluating cumulative risk assessment, and for addressing scientific issues related to cumulative risk. Although this Framework report will serve as a foundation for developing future guidance, it is neither a procedural guide nor a regulatory requirement within EPA, and it is expected to evolve with experience. The Framework is not an attempt to lay out protocols to address all the risks or considerations that are needed to adequately inform community decisions. Rather, it is an information document focused on describing various aspects of cumulative risk.

Earlier drafts of the document served as background pieces for peer consultations with State, and Federal, and other peer groups. An external peer review, open to the public, was held in June 2002. Draft documents were revised based on input received during the peer review process, and from public review and comment.

Dated: May 15, 2003.
Peter W. Preuss,
Director, National Center for Environmental Assessment.

[FR Doc. 03-13179 Filed 5-23-03; 8:45 am]

BILLING CODE 6560-50-P